COMMISSION ON CIVIL RIGHTS

Notice of Public Meeting of the Connecticut Advisory Committee

AGENCY: U.S. Commission on Civil Rights.

ACTION: Announcement of meeting.

SUMMARY: Notice is hereby given, pursuant to the provisions of the rules and regulations of the U.S. Commission on Civil Rights (Commission), and the Federal Advisory Committee Act (FACA), that the Connecticut Advisory Committee to the U.S. Commission on Civil Rights will hold a meeting via web conference or phone call on Wednesday, July 7, 2021, at 12:00 p.m. The purpose of the meeting is for review and vote on project proposals on algorithms and voting rights and review an advisory memorandum to update the Commission on the Committee's nursing homes project. The committee may also have a speaker discussion.

DATES: July 7, 2021, Wednesday, at 12:00 p.m. (ET):

• To join by web conference, use WebEx link: https://bit.ly/3d0fFMa; password, if needed: CT-USCCR

• To join by phone only, dial 1-800-360-9505; Access code: 199 953 0307

FOR FURTHER INFORMATION CONTACT: Barbara Delaviez at ero@usccr.gov or by phone at 202-539-8246.

SUPPLEMENTARY INFORMATION: This meeting is available to the public through the WebEx link above. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web link provided for this meeting.

Members of the public are entitled to make comments during the open period at the end of the meeting. Members of the public may also submit written comments; the comments must be received in the Regional Programs Unit within 30 days following the meeting. Written comments may be emailed to Barbara de La Viez at ero@usccr.gov. Persons who desire additional information may contact the Regional Programs Unit at (202) 539-8246. Records and documents discussed during the meeting will be available for public viewing as they become available at www.facadatabase.gov. Persons interested in the work of this advisory committee are advised to go to the Commission's website, www.usccr.gov, or to contact the Regional Programs Unit at the above phone number or email address.

Agenda

Wednesday, July 7, 2021, at 12:00 p.m. (ET)

I. Welcome and Roll Call

II. Review Nursing Homes Update Advisory Memorandum

III. Review and Vote on Voting Rights Project

IV. Review and Vote on Algorithms Project Proposal

V. Speaker Discussion

VI. Other Business

VII. Public Comment

VIII. Next Steps

IX. Adjournment

Dated: June 21, 2021.
David Mussatt,
Supervisory Chief, Regional Programs Unit.

[FR Doc. 2021-13485 Filed 6-24-21; 8:45 am]

BILLING CODE P